DEPARTMENT OF LABOR Employment and Training Administration

[TA-W-53,252]

Cytec Industries, Woodbridge, NJ; Dismissal of Application for Reconsideration

Pursuant to 29 CFR 90.18(C) an application for administrative reconsideration was filed with the Director of the Division of Trade Adjustment Assistance for workers at Cytec Industries, Woodbridge, New Jersey. The application contained no new substantial information which would bear importantly on the Department's determination. Therefore, dismissal of the application was issued.

TA-W-53,252; Cytec Industries, Woodbridge, New Jersey (January 30, 2003)

Signed at Washington, DC this 5th day of February 2004.
Timothy Sullivan,
Director, Division of Trade Adjustment Assistance.

[FR Doc. 04-3009 Filed 2-10-04; 8:45 am]

BILLING CODE 4510-30-P